DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in the following locations: Salt Lake City, Salt Lake County, UT; Alameda County, CA; Cambridge, Medford, and Somerville, MA; Contra Costa County, CA; and Los Angeles County, CA. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before January 21, 2013.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m. EDT, Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. The projects and actions that are the subject of this notice are:

1. Project name and location: Central Bus Operations and Maintenance Facility, Salt Lake City, Salt Lake County, UT. Project sponsor: Utah Transit Authority (UTA). Project description: The project will construct a new and larger bus facility to replace the existing one. The new facility will include bus storage for up to 250 vehicles, a new maintenance and operations building, fuel/wash operations, a tank farm, compressed natural gas fueling facilities, detail bays, chassis wash bays, and a permanent location for support vehicles and equipment. Final agency actions: Section 4(f) determination; a Section 106 Memorandum of Agreement; project-level air quality conformity; and Finding of No Significant Impact (FONSI), dated June 30, 2012. Supporting documentation: Environmental Assessment, dated May 2012.

2. Project name and location: East Bay Bus Rapid Transit Project, Alameda County, CA. Project sponsor: Alameda Contra Costa Transit District (AC Transit). Project description: The project proposes to provide bus rapid transit (BRT) service along 9.52 miles from Downtown Oakland to the San Leandro BART Station. The project would operate with transit priority at all signalized intersections, new passenger stations, and a combination of mixed-flow and dedicated travel lanes throughout the alignment. The project would also feature pedestrian amenities, landscape treatments, barrier-free self-service proof of payment fare collection, real-time bus arrival information, and low-floor, dual-sided door buses. Final agency actions: No use of Section 4(f) resources; Section 106 finding of no adverse effect; project-level air quality conformity; and Record of Decision (ROD), dated June 8, 2012. Supporting documentation: Final Environmental Impact Statement/Final Environmental Impact Report (Final EIS/EIR), dated January 2012.

3. Project name and location: Green Line Extension Project; Cambridge, Medford, and Somerville, MA. Project sponsors: Massachusetts Department of Transportation and Massachusetts Bay Transportation Authority. Project description: The project is to extend light rail transit service to College Avenue in Medford and Union Square in Somerville using a two branch operation, both within existing commuter rail rights-of-way. The 3.4 mile-long Medford Branch would operate from a relocated Lechmere Station to College Avenue. The 0.9 mile-long Union Square Branch would begin at the relocated Lechmere Station and terminate at Union Square in Somerville. The project includes a proposed maintenance and storage facility that will be required to support the Green Line Extension. Final agency actions: Section 4(f) determination; a Section 106 Memorandum of Agreement; project-level air quality conformity; and Finding of No Significant Impact (FONSI), dated July 9, 2012. Supporting documentation: Environmental Assessment, dated October 2011.

4. Project name and location: Hercules Intermodal Transit Center, Contra Costa County, CA. Project sponsor: City of Hercules, CA. Project description: The project proposes to construct an intermodal transit center, which would include a new passenger train station on the existing Capitol Corridor line, a transit bus terminal, access roadways, trails, and parking facilities. The transit center would be located on the southeastern shoreline of San Pablo Bay and would be designed to accommodate potential future ferry service. Final agency actions: No use of Section 4(f) resources; a Section 106 finding of no adverse effect; project-level air quality conformity; and Record of Decision (ROD), dated June 14, 2012. Supporting documentation: Final Environmental Impact Statement/Environmental Impact Report (Final EIS/EIR), dated April 2012.

5. Project name and location: Regional Connector Transit Corridor Project, Los Angeles County, CA. Project sponsor: Los Angeles County Metropolitan Transportation Authority (LACMTA). Project description: The project will provide a 1.9-mile direct connection of light rail transit (LRT) service from the shared Metro Blue Line and Metro Exposition Line terminus at the 7th Street/Metro Center Station to the Metro Gold Line tracks near 1st and Alameda Streets with three new below grade stations at 2nd/Hope Street, 2nd/Broadway, and 1st/Central Avenue. Final agency actions: Determination of de minimis impact to one Section 4(f) resource; a Section 106 Memorandum of Agreement; project-level air quality conformity; and Record of Decision (ROD), dated June 29, 2012. Supporting documentation: Final Environmental Impact Statement/Environmental Impact Report (Final EIS/EIR), dated January 2012.

Issued on: July 18, 2012.
Lucy Garliauskas,
Associate Administrator for Planning and Environment, Washington, DC.

[FR Doc. 2012-17838 Filed 7-20-12; 8:45 am]

BILLING CODE P